Executive Order 14027 of May 7, 2021

Establishment of the Climate Change Support Office

By the authority vested in me as President by the Constitution and the laws of the United States of America, including section 202 of the Revised Statutes (22 U.S.C. 2656) and section 3161 of title 5, United States Code, it is hereby ordered as follows:

Section 1. Establishment of the Climate Change Support Office. (a) There is established within the Department of State, in accordance with section 3161 of title 5, United States Code, a temporary organization to be known as the Climate Change Support Office (CCSO).

(b) The CCSO shall be headed by a Director selected by the Secretary of State (Secretary). In addition to a Director, the CCSO may be staffed by persons in such numbers and with such skills as are necessary for the performance of CCSO functions.

(c) The purpose of the CCSO shall be to perform the specific project of supporting bilateral and multilateral engagement to advance the United States initiative to address the global climate crisis, led by the Department of State and in coordination with other executive departments and agencies, consistent with Executive Order 14008 of January 27, 2021 (Tackling the Climate Crisis at Home and Abroad). The CCSO shall support the Department of State, including the Special Presidential Envoy for Climate, in United States efforts to elevate and underscore the commitment my Administration will make towards addressing the global climate crisis.

(d) In carrying out its purpose as set forth in subsection 1(c) of this order, the CCSO shall:

(i) support the Department of State and other executive departments and agencies, as appropriate, in leading diplomatic engagement on climate change, exercising climate leadership in international fora, increasing international climate ambition, and ensuring that climate change is integrated into all elements of United States foreign policy-making decision processes;

(ii) support efforts that go beyond the climate work currently carried out by the Department of State across a wide range of international fora that address clean energy, aviation, shipping, the Artic, the ocean, sustainable development, and migration; and

(iii) perform such other functions related to the specific project set forth in subsection 1(c) of this order as the Secretary may assign.

(e) The CCSO shall terminate at the end of the maximum period permitted by section 3161(a)(1) of title 5, United States Code, unless sooner terminated by the Secretary.

Sec. 2. General Provisions. (a) Nothing in this order shall be construed to impair or otherwise affect:

(i) the authority granted by law to an executive department or agency or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

May 7, 2021.

[FR Doc. 2021-10139

Filed 5-11-21; 8:45 am]

Billing code 3295-F1-P